DEPARTMENT OF AGRICULTURE

Animal and Plant Health Inspection Service

7 CFR Parts 319 and 354

[Docket No. APHIS-2006-0096]

Agricultural Inspection and AQI User Fees Along the U.S./Canada Border; Delay of Effective Date

AGENCY: Animal and Plant Health Inspection Service, USDA.

ACTION: Interim rule; delay of effective date.

SUMMARY: We recently published an interim rule amending the foreign quarantine and user fee regulations by removing the exemptions from inspection for imported fruits and vegetables grown in Canada and the exemptions from user fees for commercial vessels, commercial trucks, commercial railroad cars, commercial aircraft, and international air passengers entering the United States from Canada. That interim rule had an effective date of November 24, 2006. We are delaying the effective date of the removal of the user fee exemption for international air passengers until January 1, 2007, and the effective date for the remaining provisions of the rule, including the removal of the exemption from user fees for commercial vessels, commercial trucks, commercial railroad cars, and commercial aircraft entering the United States from Canada, until March 1, 2007. We are making these changes to allow additional time for affected entities to make necessary preparations to comply with the inspection and collection procedures that we will be instituting as a result of the interim rule.

DATES: The effective date for the interim rule amending 7 CFR parts 319 and 354, published at 71 FR 50320, August 25, 2006, is delayed until March 1, 2007, except for the rule's amendments to paragraphs (f)(2) and (f)(3) of 7 CFR 354.3, which are delayed until January 1, 2007.

FOR FURTHER INFORMATION CONTACT: Mr. Alan S. Green, Executive Director, Plant Health Programs, PPQ, APHIS, 4700 River Road Unit 36, Riverdale, MD 20737; (301) 734-8261.

SUPPLEMENTARY INFORMATION:

Background

The regulations in 7 CFR part 319 prohibit or restrict the importation of certain plants and plant products into the United States to prevent the introduction of plant pests. Similarly, the regulations in 9 CFR subchapter D prohibit or restrict the importation of certain animals and animal products into the United States to prevent the introduction of pests or diseases of livestock. The regulations in 7 CFR part 354 provide rates and requirements for overtime services relating to imports and exports and for user fees.

On August 25, 2006, we published an interim rule in the Federal Register (71 FR 50320-50328) amending the regulations in 7 CFR parts 319 and 354 by removing the exemptions from inspection for imported fruits and vegetables grown in Canada and the exemptions from user fees for commercial vessels, commercial trucks, commercial railroad cars, commercial aircraft, and international air passengers entering the United States from Canada. As a result of this action, all agricultural products imported from Canada were to be subject to inspection, and commercial conveyances, as well as airline passengers arriving on flights from Canada, were to be subject to inspection and user fees. The interim rule had an effective date of November 24, 2006.

Delay in Effective Date

We recently received comments from industry representatives and the Government of Canada expressing concern about the possible impact of the rule on affected entities and questioning whether the November 2006 effective date allowed adequate time for those entities to prepare to comply with the new inspection and collection procedures that we would be instituting in order to enforce the interim rule. A delay of the effective date was requested. After evaluating the comments, we have elected to delay the effective date of the interim rule. We are delaying the effective date of the removal of the user fee exemption for international air passengers until January 1, 2007, and the effective date for the remaining provisions of the rule, including the removal of the exemption from user fees for commercial vessels, commercial trucks, commercial railroad cars, and commercial aircraft entering the United States from Canada, until March 1, 2007.

Authority: 7 U.S.C. 450, 7701-7772, 7781-7786, and 8301-8317; 21 U.S.C. 136 and 136a; 49 U.S.C. 80503; 7 CFR 2.22, 2.80, and 371.3.

Done in Washington, DC, this 16th day of November 2006.
W. Ron DeHaven,
Administrator, Animal and Plant Health Inspection Service.

[FR Doc. E6-19787 Filed 11-21-06; 8:45 am]

BILLING CODE 3410-34-P